DEPARTMENT OF ENERGY

Federal Energy Regulatory Commission

Combined Notice of Filings #1

Take notice that the Commission received the following electric rate filings:

Docket Numbers: ER12-2262-001.

Applicants: PJM Interconnection, L.L.C.

Description: Compliance Filing per 10/1/2012 Order in ER12-2262 to be effective 10/1/2012.

Filed Date: 10/10/12.

Accession Number: 20121010-5133.

Comments Due: 5 p.m. e.t. 10/31/12.

Docket Numbers: ER12-2619-001.

Applicants: Eligo Energy, LLC.

Description: Amendment to Application for Market Based Rate to be effective 11/15/2012.

Filed Date: 10/11/12.

Accession Number: 20121011-5007; 20121011-5016.

Comments Due: 5 p.m. e.t. 11/1/12.

Docket Numbers: ER13-18-001.

Applicants: Big Blue Wind Farm, LLC.

Description: Amendment to Application for Market-Based Rate Authority to be effective 10/4/2012.

Filed Date: 10/10/12.

Accession Number: 20121010-5144.

Comments Due: 5 p.m. e.t. 10/19/12.

Docket Numbers: ER13-66-000.

Applicants: PJM Interconnection, L.L.C.

Description: Queue Position X1-039; Original Service Agreement No. 3402 to be effective 9/6/2012.

Filed Date: 10/10/12.

Accession Number: 20121010-5139.

Comments Due: 5 p.m. e.t. 10/31/12.

Docket Numbers: ER13-69-000.

Applicants: California Independent System Operator Corporation.

Description: 2012-10-10 Tariff Amendment to Implement Real-Time Disturbance Dispatch to be effective 12/11/2012.

Filed Date: 10/10/12.

Accession Number: 20121010-5181.

Comments Due: 5 p.m. e.t. 10/31/12.

Docket Numbers: ER13-70-000.

Applicants: Texas Dispatchable Wind 1, LLC.

Description: TEXAS DISPATCHABLE WIND 1, LLC MBR Application to be effective 10/10/2012.

Filed Date: 10/10/12.

Accession Number: 20121010-5186.

Comments Due: 5 p.m. e.t. 10/31/12.

Docket Numbers: ER13-71-000.

Applicants: California Independent System Operator Corporation.

Description: 2012-10-10 Amendment to Transmission Control Agreement to be effective 1/1/2013.

Filed Date: 10/10/12.

Accession Number: 20121010-5187.

Comments Due: 5 p.m. e.t. 10/31/12.

Docket Numbers: ER13-72-000.

Applicants: Wisconsin Electric Power Company.

Description: Market Rate Power Sales Tariff—Category Update to be effective 10/12/2012.

Filed Date: 10/11/12.

Accession Number: 20121011-5005.

Comments Due: 5 p.m. e.t. 11/1/12.

The filings are accessible in the Commission's eLibrary system by clicking on the links or querying the Docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2012.
Nathaniel J. Davis, Sr.,
Deputy Secretary.

[FR Doc. 2012-25798 Filed 10-19-12; 8:45 am]

BILLING CODE 6717-01-P